FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

AP Shipping, Inc., 19401 S. Main Street, #302, Gardena, CA 90248. Officer: Austin T. Park, President (Qualifying Individual).

Can-Med Lines (USA), Inc., 3915 Annandale Road, Annandale, VA 22003. Officers: Ibrahim Hazim, Director (Qualifying Individual), Elie M. Ibrahim, President.

Deluxe Freight, Inc., 8513 NW 72nd Street, Miami, FL 33166. Officers: William Munoz, President (Qualifying Individual), Ana M. Munoz, Treasurer.

JHJ International Ltd., Building 80, Room 215, Jamaica, NY 11430. Officer: Joseph Cho Ming Yu, President (Qualifying Individual).

Non-Vessel-Operating Common Carrier and Ocean Freight Forwarder Transportation Intermediary Applicants

Satellite Logistics Group, Inc., 12621 Featherwood, Suite 390, Houston, TX 77034-4902. Officers: Donald S. Lane, Vice President, Kevin D. Brady, President (Qualifying Individuals).

D & D Worldwide, Inc., 755 N. Route 83, Suite 216, Bensenville, IL 60106. Officer: Duke Hong, President (Qualifying Individual).

Cargo Express (Saipan), Inc., Airport Road, Dandan, P.O. Box 7447 SVRB, Saipan MP 96950. Officers: Liberato C. Legaspi, President (Qualifying Individual), Marie Christine T. Legaspi, Vice President.

Ocean Freight Forwarders—Ocean Transportation Intermediary Applicants

Marushin Group, Inc., 2720 Monterey Street, #405, Torrance, CA 90503. Officers: Honorato Soto, President, Yumiko Pobanz, Secretary (Qualifying Individuals).

Sarah Worldwide Shipping, Inc., 6 Bear Trail, Fairview, NC 28730. Officer: Kim Williams, President (Qualifying Individual).

New World Import Services, Inc., 1650 NW 94th Avenue, Miami, FL 33172. Officer: Francisco M. Ripoll, President (Qualifying Individual).

Dated: March 24, 2000.
Bryant L. VanBrakle,
Secretary.

[FR Doc. 00-7776 Filed 3-29-00; 8:45 am]

BILLING CODE 6730-01-P